DEPARTMENT OF COMMERCE

International Trade Administration

[A-557-809]

Notice of Preliminary Determination of Sales at Not Less Than Fair Value and Postponement of Final Determination: Stainless Steel Butt-Weld Pipe Fittings from Malaysia

AGENCY: Import Administration, International Trade Administration, Department of Commerce.

EFFECTIVE DATE: August 2, 2000.

FOR FURTHER INFORMATION CONTACT: Becky Hagen or Rick Johnson, Import Administration, International Trade Administration, U.S. Department of Commerce, 14th Street and Constitution Avenue, NW, Washington, DC 20230; telephone: (202) 482-3362 (Hagen) and (202) 482-3818 (Johnson).

The Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department of Commerce (“Department”) regulations are to the regulations at 19 CFR part 351 (April 1999).

Preliminary Determination

We preliminarily determine that stainless steel butt-weld pipe fittings (“pipe fittings”) from Malaysia are not being sold, nor are likely to be sold, in the United States at less than fair value (“LTFV”), as provided in section 733(b) of the Act.

Case History

On January 18, 2000, the Department initiated antidumping investigations of stainless steel butt-weld pipe fittings from Germany, Italy, Malaysia and the Philippines. See Initiation of Antidumping Duty Investigation: Stainless Steel Butt-Weld Pipe Fittings from Germany, Italy, Malaysia and the Philippines, 65 FR 4595 (January 31, 2000) (“Notice of Initiation”). Since the initiation of this investigation the following events have occurred.

The Department set aside a period for all interested parties to raise issues regarding product coverage (see Notice of Initiation at 4596). A response was received from Coprosider S.p.A. (“Coprosider”) on February 1, 2000, agreeing with the scope of the investigation. On February 3, 2000, Wilh. Schulz GmbH and its affiliates (“Schulz”) submitted comments to the Department requesting that the scope be limited only to specification ASTM 403/403M fittings below 14 inches in diameter.

On January 21, 2000, the Department issued proposed product concordance criteria to all interested parties. On February 4, 2000, the following interested parties submitted comments on our proposed product concordance criteria: Kanzen Tetsu Sdn. Bhd. (“Kanzen”); Coprosider; and Alloy Piping Products, Inc.; Flowline Division of Markovitz Enterprises, Inc.; Gerlin, Inc.; and Taylor Forge Stainless, Inc. (“petitioners”). On Feburary 8, 2000 and February 18, 2000, we received comments on our proposed product concordance criteria from Schulz.

On February 14, 2000, the United States International Trade Commission (“ITC”) notified the Department of its affirmative preliminary injury determination on imports of subject merchandise from Germany, Italy, Malaysia and the Philippines. On February 24, 2000, the ITC published its preliminary determination that there is a reasonable indication that an industry in the United States is materially injured by reason of imports of the subject merchandise from Germany, Italy, Malaysia and the Philippines (65 FR 9298).

On January 27, 2000, the Department issued Section A of its antidumping duty questionnaire to Kanzen, Schulz, and Amalgamated Industrial Stainless Steel Sdn. Bhd. (“AISS”). On February 10, 2000, the Department received responses to Question 1 of Section A from Kanzen and S.P. United Sdn. Bhd. (“SP United”). On February 14, 2000, the Department received a response to Question 1 of Section A from AISS, and on February 18, 2000, Schulz submitted a response to Question 1 of Section A of the questionnaire. On February 24, 2000, Schulz, SP United, and Kanzen submitted responses to Section A of the questionnaire. On March 1, 2000, the Department determined that it would not be practicable to investigate all four Malaysian producers/exporters, and therefore limited our examination to the largest producer/exporter, Kanzen (see “Selection of Respondents” section, below). On March 3, 2000, petitioners filed comments on Kanzen's Section A response. On March 8, 2000, the Department issued Sections B-E of its antidumping duty questionnaire to Kanzen. On March 22, 2000, the Department issued a supplemental questionnaire for Kanzen's Section A response. Kanzen responded on April 5, 2000.

On April 13, 2000, the Department published in the Federal Register a notice postponing the preliminary determination until July 26, 2000 (Notice of Postponement of Preliminary Antidumping Duty Determinations: Stainless Steel Butt-weld Pipe Fittings from Germany, Italy, Malaysia and the Philippines (65 FR 19876)).

Kanzen filed its Sections B and C response on May 1, 2000. On May 15, 2000, petitioners filed comments on Kanzen's Section B and C and Section A supplemental questionnaire responses, and requested that the Department initiate a cost investigation. The Department issued a supplemental questionnaire on Sections B and C and initiated a cost investigation on May 26, 2000 (see Memorandum to Edward Yang, Petitioners' Allegation of Sales Below the Cost of Production for Kanzen Tetsu Sdn. Bhd., dated May 26, 2000). Kanzen submitted its Section B and C supplemental questionnaire responses on June 16, 2000. On June 23, 2000, Kanzen submitted its response to Section D of the questionnaire. Also, on June 23, 2000, petitioners submitted comments on Kanzen's June 16, 2000 Section B and C supplemental questionnaire responses. The Department issued a second supplemental questionnaire on Sections B and C on June 27, 2000. On June 30, 2000, petitioners submitted comments on Kanzen's Section D response. Also, on June 30, 2000, petitioners alleged that critical circumstances exist with respect to imports of pipe fittings from Malaysia. On July 5, 2000, the Department requested that Kanzen report monthly U.S. shipment data (including total quantity and value figures) from 1998 through May 2000. Kanzen submitted its responses to the second supplemental questionnaire on Sections B and C on July 10, 2000. On July 12, 2000, Kanzen submitted its monthly U.S. shipment data. On July 14, 2000, the Department issued a supplemental questionnaire on Section D.

Postponement of Final Determination

Pursuant to section 735(a)(2) of the Act, on May 24, 2000 Kanzen requested that, in the event of an affirmative preliminary determination in this investigation, the Department postpone its final determination until not later than 135 days after the date of the publication of an affirmative preliminary determination in the Federal Register. Kanzen also requested a two-month extension of the four-month limit on the imposition of provisional measures. Additionally, on May 30, 2000, petitioners requested that, in the event of a negative preliminary determination in this investigation, the Department postpone its final determination until not later than 135 days after the date of the publication of an affirmative preliminary determination in the Federal Register. In accordance with Section 735(a)(2)(B) of the Act, because our preliminary determination is negative, we are granting petitioners' request and are postponing the final determination until no later than 135 days after the publication of this notice in the Federal Register. See also 19 CFR 351.210(b).

Scope of Investigation

For purposes of this investigation, the product covered is certain stainless steel butt-weld pipe fittings. Certain stainless steel butt-weld pipe fittings (“pipe fittings”) are under 14 inches in outside diameter (based on nominal pipe size), whether finished or unfinished. The product encompasses all grades of stainless steel and “commodity” and “specialty” fittings. Specifically excluded from the definition are threaded, grooved, and bolted fittings, and fittings made from any material other than stainless steel.

The pipe fittings subject to this investigation are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Pipe fittings manufactured to specification ASTM A774, or its foreign equivalents, are also covered by these investigations.

This investigation does not apply to cast fittings. Cast austenitic stainless steel pipe fittings are covered by specifications A351/A351M, A743/743M, and A744/A744M.

The pipe fittings subject to this investigation are currently classifiable under subheading 7307.23.0000 of the Harmonized Tariff Schedule of the United States (HTSUS). Although the HTSUS subheadings are provided for convenience and customs purposes, the written description of the scope of this investigation is dispositive.

Period of Investigation

The period of investigation (“POI”) is October 1, 1998 through September 30, 1999.

Selection of Respondents

Section 777A(c)(1) of the Act directs the Department to calculate individual dumping margins for each known exporter and producer of the subject merchandise. However, section 777A(c)(2) of the Act gives the Department discretion, when faced with a large number of exporters/producers, to limit its examination to a reasonable number of such companies if it is not practicable to examine all companies. Where it is not practicable to examine all known producers/exporters of subject merchandise, this provision permits the Department to investigate either: (1) A sample of exporters, producers, or types of products that is statistically valid based on the information available at the time of selection, or (2) exporters and producers accounting for the largest volume of the subject merchandise that can be reasonable examined.

We examined producer-specific data accounting for total POI exports of pipe fittings from Malaysia. We identified four companies who exported pipe fittings to the U.S. during the POI. Due to constraints on our time and resources, we found it impracticable to examine all four of them. Therefore, because its export volume accounted for the vast majority of all exports from Malaysia, we selected Kanzen as the mandatory respondent. For a more detailed discussion of respondent selection in this investigation, see Respondent Selection Memorandum, dated March 1, 2000.

Fair Value Comparisons

To determine whether sales of pipe fittings from Malaysia to the United States were made at less than fair value, we compared the export price (“EP”) to the normal value (“NV”), as described in the “Export Price” and “Normal Value” sections of this notice. In accordance with section 777A(d)(1)(A)(i) of the Act, we calculated weighted-average EPs for comparison to weighted-average NVs.

Transactions Investigated

A. Home Market Viability

In order to determine whether there is a sufficient volume of sales in the home market to serve as a viable basis for calculating NV (i.e., the aggregate volume of home market sales of the foreign like product is equal to or greater than five percent of the aggregate volume of U.S. sales), we compared the respondent's volume of home market sales of the foreign like product to the volume of U.S. sales of the subject merchandise, in accordance with section 773(a)(1) of the Act. Since Kanzen's aggregate volume of home market sales of the foreign like product was less than five percent of its aggregate volume of U.S. sales for the subject merchandise, we determined that the home market was not viable. Therefore, we have based NV on third country (the United Kingdom) market (“foreign market”) sales in the usual commercial quantities and in the ordinary course of trade, since Kanzen's aggregate volume of sales of the foreign like product in the United Kingdom were more than five percent of its aggregate volume of U.S. sales of the subject merchandise, and as such, considered viable.

B. Date of Sale

For both foreign market and U.S. transactions, Kanzen reported the date of the contract (i.e., order confirmation) as the date of sale, i.e., the date when price, quantity, and material specifications are finalized, because Kanzen stated that the contract confirms all major terms of sale—price, quantity, and product specification—as agreed to by Kanzen and the customer. Because the frequency of changes in price and quantity between contract and invoice date indicate that the essential terms of sale are fixed at the contract date, the Department preliminarily determines that the contract date is the most appropriate date to use for the date of sale.

Product Comparisons

In accordance with section 771(16) of the Act, we considered all products produced by the respondent covered by the description in the “Scope of the Investigation” section, above, and sold in the foreign market during the POI, to be foreign like products for purposes of determining appropriate product comparisons to U.S. sales. Where there were no sales of identical merchandise in the foreign market to compare to U.S. sales, we compared U.S. sales to the next most similar foreign like product on the basis of the characteristics and reporting instructions listed in the Department's March 9, 2000 questionnaire.

Export Price

Section 772(a) of the Act defines export price as the price at which the subject merchandise is first sold (or agreed to be sold) before the date of importation by the producer or exporter of the subject merchandise outside of the United States to an unaffiliated purchaser in the United States or to an unaffiliated purchaser for exportation to the United States, as adjusted under subsection (c). Section 772(b) of the Act defines constructed export price as the price at which the subject merchandise is first sold (or agreed to be sold) in the United States before or after the date of importation by or for the account of the producer or exporter of such merchandise or by a seller affiliated with the producer or exporter, to a purchaser not affiliated with the producer or exporter, as adjusted under subsections (c) and (d). For purposes of this investigation, Kanzen has classified its sales as EP sales.

We based our calculation on EP, in accordance with section 772(a) of the Act, because the subject merchandise was sold by the producer or exporter directly to the first unaffiliated purchaser in the United States prior to importation. We based EP on CIF U.S. port prices to unaffiliated purchasers in the United States. We made deductions from the starting price, where appropriate, for foreign inland freight (plant to port of exportation), brokerage and handling, credit, international freight, bank charges incurred by Kanzen, fumigation service charges, and marine insurance, in accordance with section 772(c)(2)(A) of the Act.

Normal Value

After testing whether the foreign market sales were made at below-cost prices, we calculated NV as noted in the “Price-to-Price Comparisons” and “Price-to-Constructed Value Comparison” sections of this notice.

Cost of Production (“COP”) Analysis

Based on the cost allegation submitted by petitioners on May 15, 2000, and in accordance with section 773(b)(2)(A)(i) of the Act, the Department found reasonable grounds to believe or suspect that Kanzen had made sales in the foreign market at prices below the cost of producing the merchandise, in accordance with section 773(b)(1) of the Act. See Memorandum to Edward Yang, Petitioners' Allegation of Sales Below the Cost of Production for Kanzen Tetsu Sdn. Bhd., dated May 26, 2000. As a result, the Department initiated an investigation to determine whether Kanzen made foreign market sales during the POI at prices below its COP within the meaning of section 773(b) of the Act. We conducted the COP analysis described below.

A. Calculation of COP

In accordance with section 773(b)(3) of the Act, we calculated COP based on the sum of Kanzen's cost of materials and fabrication (“COM”) for the foreign like product, plus amounts for selling, general, and administrative expenses (“SG&A”), financial expense, and packing costs. For the preliminary results, we relied on Kanzen's submitted COM without adjustment. However, we did adjust the reported general and administrative (“G&A”) and financial expenses because we excluded certain offsets and expenses used to calculate the reported G&A and financial expense ratios. To calculate our revised G&A ratio, we excluded certain items from the reported numerator. In addition, we excluded packing and transportation expenses from the amount used as the denominator. To calculate each control number's (CONNUM's) G&A expense, we applied our revised G&A expense ratio to each CONNUM's reported cost of manufacturing. As for the calculation of our revised financial expense ratio, we disallowed the interest income offset that Kanzen had included in the reported numerator. In addition, we excluded packing and transportation expenses from the amount used as the denominator. To calculate each CONNUM's financial expense, we applied the revised financial expense ratio to each CONNUM's reported cost of manufacturing.

B. Test of Foreign Market Sales Prices

We compared COP to foreign market sale prices of the foreign like product, as required under section 773(b) of the Act, in order to determine whether these sales had been made at prices below the COP. In determining whether to disregard foreign market sales made at prices below the COP, we examined whether such sales were made (1) within an extended period of time in substantial quantities, and (2) at prices which permitted the recovery of all costs within a reasonable period of time, in accordance with sections 773(b)(1)(A) and (B) of the Act. On a product-specific basis, we compared the COP to foreign market prices, less any applicable movement charges, discounts and rebates, and selling expenses.

C. Results of the COP Test

Pursuant to section 773(b)(2)(C) of the Act, where less than 20 percent of the respondent's sales of a given product were at prices less than the COP, we did not disregard any below-cost sales of that product because we determined that the below-cost sales were not made in substantial quantities. Where 20 percent or more of the respondent's sales of a given product during the POI were at prices less than the COP, we determined such sales to have been made in substantial quantities within an extended period of time, in accordance with section 773(b)(2)(B) of the Act. Because we compared prices to POI or fiscal year average costs, we also determined that such sales were not made at prices which would permit recovery of all costs within a reasonable period of time, in accordance with section 773(b)(2)(D) of the Act. Therefore, we disregarded the below-cost sales.

D. Calculation of Constructed Value (“CV”)

In accordance with section 773(e)(1) of the Act, we calculated CV based on the sum of Kanzen's COM, SG&A, financial expense, packing and profit. As noted in the above COP section, we relied on Kanzen's submitted COM without adjustment. However, we did make adjustments to the reported G&A and financial expenses. In accordance with section 773(e)(2)(A) of the Act, we based SG&A and profit on the amounts incurred and realized by Kanzen in connection with the production and sale of the foreign like product in the ordinary course of trade, for consumption in the foreign country.

Price-to-Price Comparisons

For those product comparisons for which there were sales at prices above the COP, we based NV on prices to foreign market customers. We calculated NV based on FOB port of export prices to unaffiliated foreign market customers. We made adjustments to starting price, where appropriate, for billing adjustments. We made deductions for inland freight from the plant to the customer in accordance with section 773(a)(6)(B) of the Act and bank charges incurred by Kanzen, in accordance with section 773(a)(6)(C)(iii) of the Act. Normally, we deduct foreign market packing costs and add U.S. packing costs, in accordance with section 773(a)(6); however, in the instant case, we did not deduct foreign market packing costs nor add U.S. packing costs because Kanzen has stated that there is no difference between its foreign market and U.S. packing costs.

Price-to-CV Comparisons

In accordance with section 773(a)(4) of the Act, we based NV on CV if we were unable to find a match of the foreign like product. We made adjustments to CV in accordance with section 773(a)(8) of the Act. For comparisons to EP, we made COS adjustments by deducting foreign market direct selling expenses and adding U.S. direct selling expense, in accordance with section 773(a)(6)(C)(iii) of the Act.

Level of Trade

In accordance with section 773(a)(1)(B) of the Act, to the extent practicable, we determine NV based on sales in the comparison market at the same level of trade (“LOT”) as the EP or CEP transaction. The NV LOT is that of the starting-price sales in the comparison market or, when NV is based on CV, that of the sales from which we derive SG&A and profit. For EP, the LOT is also the level of the starting price sale, which is usually from the exporter to the importer.

To determine whether NV sales are at a different LOT than EP or CEP sales, we examine stages in the marketing process and selling functions along the chain of distribution between the producer and the unaffiliated customer. If the comparison market sales are at a different LOT, and the difference affects price comparability, as manifested in a pattern of consistent price differences between the sales on which NV is based and comparison-market sales at the LOT of the export transaction, we make an LOT adjustment under section 773(a)(7)(A) of the Act.

Kanzen did not request a LOT adjustment. To ensure that no such adjustment was necessary, in accordance with the principles discussed above, we examined information regarding the distribution systems in both the United States and foreign markets, including the selling functions, classes of customer, and selling expenses. Kanzen stated that both U.S. and foreign market customers' products are made to order and that it did not maintain inventory. Technical advice and warranty services were not provided to either the U.S. or foreign market customers. Kanzen also stated that it did not incur any advertising expenses during the POI for its sales to the U.S. and the foreign market.

Regarding sales process, Kanzen stated that both the U.S. and foreign market customers normally solicited price quotations and available production capacity from Kanzen, via telephone or facsimile. Kanzen and the U.S. or foreign market customer then negotiated the terms of sales, after which the customer (U.S. or U.K.) would issue a purchase order to Kanzen based on the negotiated sales terms. If there were no discrepancies with the negotiated terms, Kanzen would then issue a contract, confirming the order. Kanzen did not use selling agents or pay commissions for its sales to the U.S. and foreign market. After production of the made-to-order fittings, they are shipped to the port near Kanzen's factory, loaded onto a vessel, and delivered directly to the United States or foreign market customer. At the time of shipment, Kanzen invoices both the United States and foreign market customer. Kanzen paid for freight and insurance for all its U.S. sales, while the foreign market customer paid for ocean freight and insurance. Additionally, while the foreign market customer takes title to the merchandise upon loading it onto the vessel, the U.S. customer takes title to the merchandise upon arrival at the U.S. port.

In both the U.S. and foreign market, Kanzen reported one sales channel, to unaffiliated distributors. Therefore, we preliminarily conclude that sales to unaffiliated distributors constitute one LOT in the foreign market. Further, we preliminarily conclude that because the U.S. LOT and the foreign market LOT included similar selling functions, as described above, these sales are made at the same LOT. Therefore, a LOT adjustment for Kanzen is not appropriate.

Currency Conversion

We made currency conversions into U.S. dollars based on the exchange rates in effect on the dates of the U.S. sales as certified by the Federal Reserve Bank.

Section 773A(a) of the Act directs the Department to use a daily exchange rate in order to convert foreign currencies into U.S. dollars unless the daily rate involves a fluctuation. It is the Department's practice to find that a fluctuation exists when the daily exchange rate differs from the benchmark rate by 2.25 percent. The benchmark is defined as the moving average of rates for the past 40 business days. When we determine a fluctuation to have existed, we substitute the benchmark rate for the daily rate, in accordance with established practice. Further, section 773A(b) of the Act directs the Department to allow a 60-day adjustment period when a currency has undergone a sustained movement. A sustained movement has occurred when the weekly average of actual daily rates exceeds the weekly average of benchmark rates by more than five percent for eight consecutive weeks. (For an explanation of this method, see Policy Bulletin 96-1: Currency Conversions (61 FR 9434, March 8, 1996).)

Verification

As provided in section 782(i) of the Act, we will verify all information relied upon in making our final determination.

Critical Circumstances

On June 30, 2000, petitioners made a timely allegation that there is a reasonable basis to believe or suspect that critical circumstances exist with respect to imports of subject merchandise from Malaysia. According to section 733(e)(1) of the Act, if critical circumstances are alleged under section 733(e) of the Act, the Department must examine whether there is a reasonable basis to believe or suspect that: (A)(i) there is a history of dumping and material injury by reason of dumped imports in the United States or elsewhere of the subject merchandise, or (ii) the person by whom, or for whose account, the merchandise was imported knew or should have known that the exporter was selling the subject merchandise at less than its fair value and there was likely to be material injury by reason of such sales, and (B) there have been massive imports of the subject merchandise over a relatively short period. Section 351.206(h)(1) of the Department's regulations provides that, in determining whether imports of the subject merchandise have been “massive,” the Department normally will examine: (i) The volume and value of the imports; (ii) seasonal trends; and (iii) the share of domestic consumption accounted for by the imports. In addition, 19 CFR 351.206(h)(2) provides that an increase in imports of over 15 percent may be considered “massive” during the “relatively short period” described in 19 CFR 351.206(i). Section 351.206(i) of the Department's regulations defines “relatively short period” normally as the period beginning on the date the proceeding begins (i.e., the date the petition is filed) and ending at least three months later. Because we are not aware of any antidumping order in any country on pipe fittings from Malaysia, we find that there is no reasonable basis to believe or suspect that there is a history of dumping and material injury by reason of dumped imports in the United States or elsewhere of the subject merchandise. Therefore, we must look to whether there was importer knowledge under section 733(e)(1)(A)(ii) of the Act.

In determining whether there is a reasonable basis to believe or suspect that an importer knew or should have known that the exporter was selling the pipe fittings at less than fair value, the Department's normal practice is to consider EP sales margins of 25 percent or more sufficient to impute knowledge of dumping. See Final Determination of Sales at Less Than Fair Value: Brake and Brake Rotors From the People's Republic of China, 62 FR 9160, 9164 (February 28, 1997). Since the company-specific margin for EP sales in our preliminary determination for pipe fittings is less than 25 percent for Kanzen, we have not imputed knowledge of dumping based on this margin. However, in determining whether there is a reasonable basis to believe or suspect that an importer knew or should have known that there was likely to be material injury by reason of dumped imports, the Department may look to the preliminary injury determination of the ITC. See Id. at 9164. If the ITC finds a reasonable indication of present material injury to the relevant U.S. industry, the Department normally determines that a reasonable basis exists to impute importer knowledge that there was likely to be material injury by reason of dumped imports. See Id. The ITC has found that a reasonable indication of present material injury exists in regard to Malaysia. See ITC Preliminary Determination. As a result, the Department has determined that there is a reasonable basis to believe or suspect that importers knew or should have known that there was likely to be material injury by reason of dumped imports in this case.

In determining whether there are “massive imports” over a “relatively short period,” the Department ordinarily bases its analysis on import data for at least the three months preceding (the “base period”) and following (the “comparison period”) the filing of the petition. See 19 CFR 351.206(i). Imports normally will be considered massive when imports during the comparison period have increased by 15 percent or more compared to imports during the base period. See 19 CFR 351.206(h). On July 12, 2000, Kanzen submitted shipment information which shows that its imports did not increase by 15 percent or more than during the comparison period (January-May, 2000) from the level of the preceding five months. See Preliminary Determination Analysis Memorandum, dated July 26, 2000 (“Analysis Memorandum”). Therefore, we do not find that critical circumstances exist for Kanzen, since it did not have massive imports nor did it have a margin high enough to impute importer knowledge of dumping.

Next, in accordance with the Department's practice, we have evaluated whether critical circumstances exist for the “all others” companies. We are unaware of any antidumping order against Malaysia on pipe fittings worldwide. Therefore, the Department must examine part (ii) of the first prong of the critical circumstances test for the “all others” companies. Since the “all others” rate in our preliminary determination for pipe fittings is less than 25 percent, we have not imputed knowledge of dumping based on this margin.

Finally, we have evaluated whether there are “massive imports” for the “all others” companies in terms of both the imports of the investigated company and country-specific import data. See Final Determination of Sales at Less Than Fair Value: Stainless Steel Sheet and Strip in Coils from Japan, 64 FR 30574, 30585 (June 8, 1999). As discussed above, an evaluation of Kanzen's shipment data did not show an increase of fifteen percent or more during the relevant comparison periods, and we therefore found that Kanzen's data provided no evidence of massive imports. In accordance with our decision in the Final Determination of Sales at Less Than Fair Value: Hot-Rolled Steel from Japan, 64 FR 24329 (May 6, 1999), we also considered U.S. customs data on overall imports from Malaysia of the products at issue. These statistics, however, include merchandise other than subject merchandise. As such, we have not relied on this data in making our “massive imports” determination for “all others.” Based on our review of Kanzen's data on massive imports, we find that imports from uninvestigated exporters (e.g., “all others”) were also not massive during the relevant comparison periods. Therefore, the Department determines that there are no critical circumstances with regard to “all other” imports of pipe fittings from Malaysia.

Suspension of Liquidation

Since the estimated weighted-average dumping margin for the examined company is 0.59 percent and therefore is de minimis, we are directing the Customs Service not to suspend liquidation of entries of stainless steel butt-weld pipe fittings from Malaysia. These instructions not suspending liquidation will remain in effect until further notice.

ITC Notification

In accordance with section 733(f) of the Act, we have notified the ITC of our negative preliminary determination. If our final determination is affirmative, the ITC will determine within 75 days after the date of our final determination, whether these imports are materially injuring, or threaten material injury to, the U.S. industry.

Public Comment

Case briefs for this investigation must be submitted no later than one week after the issuance of the verification reports. Rebuttal briefs must be filed within five days after the deadline for submission of case briefs. A list of authorities used, a table of contents, and an executive summary of issues should accompany any briefs submitted to the Department. Executive summaries should be limited to five pages total, including footnotes. Further, we would appreciate it if parties submitting written comments would provide the Department with an additional copy of the public version of any such comments on diskette.

Section 774 of the Act provides that the Department will hold a hearing to afford interested parties an opportunity to comment on arguments raised in case or rebuttal briefs, provided that such a hearing is requested by any interested party. If a request for a hearing is made in an investigation, the hearing will tentatively be held two days after the deadline for submission of the rebuttal briefs, at the U.S. Department of Commerce, 14th Street and Constitution Avenue, NW, Washington, DC 20230. In the event that the Department receives requests for hearings from parties to several stainless steel butt-weld pipe fittings cases, the Department may schedule a single hearing to encompass all those cases. Parties should confirm by telephone the time, date, and place of the hearing 48 hours before the scheduled time. Interested parties who wish to request a hearing, or participate if one is requested, must submit a written request within 30 days of the publication of this notice. Oral presentations will be limited to issues raised in the briefs. If this investigation proceeds normally, we will make our final determination no later than 135 days after the date of publication of this preliminary determination.

This determination is issued and published in accordance with sections 733(d) and 777(i)(1) of the Act.

Dated: July 26, 2000.
Troy H. Cribb,
Acting Assistant Secretary for Import Administration.

[FR Doc. 00-19551 Filed 8-1-00; 8:45 am]

BILLING CODE 3510-DS-P